BUREAU OF CONSUMER FINANCIAL PROTECTION

[Docket No. CFPB-2019-0054]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is proposing to renew with changes the Office of Management and Budget (OMB) approval for an existing information collection, titled, “Evaluation of Financial Empowerment Training Program.”

DATES: Written comments are encouraged and must be received on or before November 18, 2019 to be assured of consideration.

ADDRESSES: Comments in response to this notice are to be directed towards OMB and to the attention of the OMB Desk Officer for the Bureau of Consumer Financial Protection. You may submit comments, identified by the title of the information collection, OMB Control Number (see below), and docket number (see above), by any of the following methods:

• Electronic: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under review,” use the dropdown menu “Select Agency” and select “Consumer Financial Protection Bureau” (recent submissions to OMB will be at the top of the list). The same documentation is also available at http://www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Evaluation of Financial Empowerment Training Program.

OMB Control Number: 3170-0067.

Type of Review: Extension with change of an existing information collection.

Affected Public: Business and other non-profit institutions.

Estimated Number of Respondents: 7,500.

Estimated Total Annual Burden Hours: 1,899.

Abstract: The Consumer Financial Protection Bureau's (Bureau) Office of Community Affairs (OCA) is responsible for developing strategies to improve the financial capability of low-income and economically vulnerable consumers, such as consumers who are unbanked or underbanked, those with thin or no credit file, and households with limited savings. To address the needs of these consumers, OCA has developed Your Money, Your Goals, a suite of financial empowerment materials with an accompanying training program. These resources equip frontline staff and volunteers in a range of organizations to provide relevant and effective information, tools, and resources designed to improve the financial outcomes and capability of these vulnerable consumers. The Bureau seeks to renew OMB approval of this information collection which collects qualitative data related to evaluating the effectiveness of the Your Money, Your Goals training program. The collection focus on evaluating Your Money, Your Goals training practices in enhancing the ability of frontline staff and volunteers to inform and educate low-income consumers about managing their finances. The collection also serves to assess the extent of workshop participants' execution of follow-on trainings, designed to share Your Money, Your Goals tools and resources with other frontline staff and volunteers, so they can use them with the people they serve. The Bureau expects to collect qualitative data through paper-based and web-based surveys. This is a routine request for OMB to renew its approval of the collections of information currently approved under this OMB control number.

Request for Comments: The Bureau issued a 60-day Federal Register notice on June 24, 2019, 84 FR 29503, Docket Number: CFPB-2019-0035. Comments were solicited and continue to be invited on: (a) Whether the collection of information is necessary for the proper performance of the functions of the Bureau, including whether the information will have practical utility; (b) the accuracy of the Bureau's estimate of the burden of the collection of information, including the validity of the methods and the assumptions used; (c) ways to enhance the quality, utility, and clarity of the information to be collected; and (d) ways to minimize the burden of the collection of information on respondents, including through the use of automated collection techniques or other forms of information technology. Comments submitted in response to this notice will be reviewed by OMB as part of its review of this request. All comments will become a matter of public record.

Dated: October 15, 2019.
Darrin A. King,
Paperwork Reduction Act Officer, Bureau of Consumer Financial Protection.

[FR Doc. 2019-22770 Filed 10-17-19; 8:45 am]

BILLING CODE 4810-AM-P